DEPARTMENT OF AGRICULTURE

Animal and Plant Health Inspection Service

[Docket No. APHIS-2009-0058]

Availability of an Environmental Assessment for a Biological Control Agent for Water Hyacinth

AGENCY: Animal and Plant Health Inspection Service, USDA.

ACTION: Notice of availability and request for comments.

SUMMARY: We are advising the public that the Animal and Plant Health Inspection Service has prepared an environmental assessment relative to the control of water hyacinth (Eichhornia crassipes). The environmental assessment considers the effects of, and alternatives to, the release of an insect, Megamelus scutellaris, into the continental United States for use as a biological control agent to reduce the severity of water hyacinth infestations. We are making the environmental assessment available to the public for review and comment.

DATES: We will consider all comments that we receive on or before December 16, 2009.

ADDRESSES: You may submit comments by either of the following methods:

• Federal eRulemaking Portal: Go to (http://www.regulations.gov/fdmspublic/component/main?main=DocketDetail&d=APHIS-2009-0058) to submit or view comments and to view supporting and related materials available electronically.

• Postal Mail/Commercial Delivery: Please send two copies of your comment to Docket No. APHIS-2009-0058, Regulatory Analysis and Development, PPD, APHIS, Station 3A-03.8, 4700 River Road Unit 118, Riverdale, MD 20737-1238. Please state that your comment refers to Docket No. APHIS-2009-0058.

Reading Room: You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Shirley Wager-Page, Chief, Pest Permitting Branch, PPQ, APHIS, 4700 River Road Unit 133, Riverdale, MD 20737-1237; (301) 734-8453.

SUPPLEMENTARY INFORMATION:

Background

The Animal and Plant Health Inspection Service (APHIS) is proposing to issue permits for the release of an insect, Megamelus scutellaris, into the continental United States for use as a biological control agent to reduce the severity of water hyacinth infestations.

Water hyacinth originated in lowland tropical South America and was first introduced into the United States in the late 1800s. Its erect, free-floating habit and attractive flowers made its use popular in ornamental ponds and garden pools which inevitably led to the spread of the plant by humans. The individual rosettes reproduce to form extensive floating mats which, in mature stands, extend a meter or more above the water’s surface. The invasiveness of water hyacinth results from its rapid growth, its ability to reinfest via seeds or plant fragments, and its lack of natural enemies. Infestations negatively affect water traffic, water quality, infrastructure for pumping and hydroelectric operations, water use, and biodiversity. The plant can also cause property damage during floods, water loss due to evapotranspiration, and an increase in mosquito populations.

Existing water hyacinth management options include chemical control, draining, and harvesting. However, these management measures are ineffective, expensive, temporary, have non-target impacts, or disturb the life cycles of the currently released insects used for biological control of water hyacinth. Thus, a permit application has been submitted to APHIS for the purpose of releasing an insect, M. scutellaris, into the continental United States for use as a biological control agent to reduce the severity of water hyacinth infestations.

APHIS’ review and analysis of the proposed action are documented in detail in an environmental assessment (EA) titled “Field Release of Megamelus scutellaris, Berg (Hemiptera: Delphacidae), for Biological Control of Water Hyacinth Eichhornia crassipes Mart. (Solms) (Pontederiales: Pontederiaceae) in the Continental United States” (July 2009). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

Done in Washington, DC, this 9th day of November 2009.

Kevin Shea,
Acting Administrator, Animal and Plant Health Inspection Service.

[FR Doc. E9-27393 Filed 11-13-09 8:45 am]

BILLING CODE 3410-34-S